DEPARTMENT OF LABOR

Employment and Training Administration

Comment Request for Information Collection for the YouthBuild (YB) Reporting System (OMB Control No. 1205-0464), Extension Without Revisions

AGENCY: Employment and Training Administration.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about the YB Reporting System which expires on October 31, 2010.

A copy of the proposed information collection request (ICR) can be obtained by contacting the office listed below in the addressee section of this notice.

DATES: Written comments must be submitted to the office listed in the addressee's section below on or before November 15, 2010.

ADDRESSES: Submit written comments to Anne Stom, Room N-4508, Employment and Training Administration, 200 Constitution Avenue, NW., Washington, DC 20210. Telephone number: 202-693-3377 (this is not a toll-free number). Fax: 202-693-3113. E-mail: stom.anne@dol.gov.

SUPPLEMENTARY INFORMATION:

I. Background

This is a request for the Department of Labor, Employment and Training Administration's (ETA) request to continue the reporting and recordkeeping requirements of the YouthBuild (YB) program. This reporting structure features standardized data collection for program participants and quarterly progress and Management Information System (MIS) report formats. All data collection and reporting is done by YouthBuild grantees.

The quarterly progress reports provide a detailed, narrative account of program activities, accomplishments, and progress toward performance outcomes during the quarter. The quarterly performance reports include aggregate and participant-level information on demographic characteristics, types of services received, placements, outcomes, and follow-up status. Specifically, these reports collect data on individuals who receive education, occupational skill training, leadership development services, and other services essential to preparing at-risk youth for high-wage, high-demand occupations through YouthBuild programs.

The accuracy, reliability, and comparability of program reports submitted by grantees using federal funds are fundamental elements of good public administration and are necessary tools for maintaining and demonstrating system integrity. The use of a standard set of data elements, definitions, and specifications at all levels of the workforce system helps improve the quality of performance information that is received by ETA.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses

III. Current Actions

Type of Review: Extension without changes.

Title: YouthBuild (YB) Reporting System.

OMB Number: OMB 1205-0464.

Affected Public: Grantees—Not for Profit institutions.

Form(s): ETA-9138, Standardized Quarterly Performance Report—YouthBuild Program; and ETA-9143, WorkSite Description.

Form/activity | Total respondents | Frequency | Total annual responses | Average time per response (hours) | Total annual burden hours
Participant Data Collection | 6,000 youth participants | Collected by grantees, continual | 6,000 | 1.8 | 10,800
Housing Site Description ETA-9143 | 220 grantees | Annually | 220 | 40 | 8,800
Quarterly narrative progress report | 220 grantees | Quarterly | 880 | 16 | 14,080
Quarterly performance report. ETA-9138 | 220 grantees | Quarterly | 880 | 16 | 14,080
Totals | 220 grantees |  | 7760 |  | 38,960

Total Annual Burden Cost for Respondents: $0.

Comments submitted in response to this comment request will be summarized and/or included in the request for Office of Management and Budget approval of the information collection request; they will also become a matter of public record.

Dated: Signed at Washington, DC, this 3rd day of September, 2010.
Jane Oates,
Assistant Secretary, Employment and Training Administration.

[FR Doc. 2010-22927 Filed 9-14-10; 8:45 am]

BILLING CODE 4510-FT-P